DEPARTMENT OF TRANSPORTATION

Coast Guard

33 CFR Part 117

[CGD07-00-133]

Drawbridge Operation Regulations; Siesta Key Bridge, Across the Gulf Intracoastal Waterway, Mile 71.6, Sarasota County, FL

AGENCY: Coast Guard, DOT.

ACTION: Notice of temporary deviation from regulations.

SUMMARY: The Commander, Seventh Coast Guard District, has approved a temporary deviation from the regulations governing the operation of the Siesta Key bridge across the Gulf Intracoastal Waterway, mile 71.6, Sarasota County, Florida. This deviation allows the drawbridge owner or operator to open only the east span from 8 a.m. until 12 p.m., on January 8, 2001. This temporary deviation is required to allow the bridge owner to safely complete repairs of the bridge.

DATES: This deviation is effective on January 8, 2001.

FOR FURTHER INFORMATION CONTACT: Mr. Barry Dragon, Chief, Operations Section, Seventh Coast Guard District, Bridge Section at (305) 415-6743.

SUPPLEMENTARY INFORMATION: The Siesta Key bridge across the Gulf Intracoastal Waterway at Sarasota County, has a vertical clearance of 21 feet above mean high water (MHW) measured at the fenders in the closed position with a horizontal clearance of 90 feet. On December 13, 2000, Florida Department of Transportation, the drawbridge owner, requested a deviation from the current operating regulation in 33 CFR 117.5 which requires drawbridge to open promptly and fully when a request to open is given. This temporary deviation was requested to allow necessary repairs to the drawbridge in a critical time sensitive manner.

The District Commander has granted a temporary deviation from the operating requirements listed in 33 CFR 117.5 for the purpose of repair completion of the drawbridge. Under this deviation, the Siesta Key Bridge need only open the east span from 8 a.m. until 12 p.m. on January 8, 2001.

Dated: December 21, 2000.
Greg E. Shapley,
Chief, Bridge Administration, Seventh Coast Guard District.

[FR Doc. 01-550 Filed 1-8-01; 8:45 am]

BILLING CODE 4910-15-P